DEPARTMENT OF ENERGY

Federal Energy Regulatory Commission

Combined Notice of Filings

November 10, 2009.

Take notice that the Commission has received the following Natural Gas Pipeline Rate and Refund Report filings:

Docket Numbers: RP10-58-001.

Applicants: Questar Pipeline Company.

Description: Questar Pipeline Company submits Substitute Seventh Revised Sheet 7.01 to FERC Gas Tariff, First Revised Volume 1 to be effective 11/1/09.

Filed Date: 10/22/2009.

Accession Number: 20091023-0016.

Comment Date: 5 p.m. Eastern Time on Monday, November 16, 2009.

Docket Numbers: RP08-426-011.

Applicants: El Paso Natural Gas Company.

Description: El Paso Natural Gas Company submits Fourth Revised Sheet No 388 to FERC Gas Tariff, Second Revised Volume No 1A.

Filed Date: 10/29/2009.

Accession Number: 20091030-0129.

Comment Date: 5 p.m. Eastern Time on Monday, November 16, 2009.

Docket Numbers: RP00-327-008.

Applicants: Columbia Gas Transmission, LLC.

Description: Columbia Gas Transmission Segmentation Report.

Filed Date: 10/30/2009.

Accession Number: 20091030-5097.

Comment Date: 5 p.m. Eastern Time on Monday, November 16, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-28110 Filed 11-23-09; 8:45 am]

BILLING CODE 6717-01-P